DEPARTMENT OF ENERGY

Hydrogen Technical Advisory Panel

AGENCY: Department of Energy.

ACTION: Notice of open meeting.

SUMMARY: This notice announces a meeting of the Hydrogen Technical Advisory Panel. Federal Advisory Committee Act (Public Law No. 92-463, 86 Stat. 770, as amended), requires that public notice of these meetings be announced in the Federal Register.

DATES: Monday, February 28, 2000, 8:30 a.m.-6 p.m.; Tuesday, February 29, 2000, 8:30 a.m.-12 p.m.

ADDRESSES: Sheraton Premiere Hotel, Tyson's Corner, Vienna, Virginia, 22182; Telephone: 703-448-1234.

FOR FURTHER INFORMATION CONTACT: Neil Rossmeissl, Designated Federal Officer, Hydrogen Program Manager, EE-15, Office of Power Technologies, Department of Energy, Washington, D.C. 20585; Telephone: 202-586-8668.

SUPPLEMENTARY INFORMATION:

Purpose of the Meeting

—The major purpose of this meeting will be to present the HTAP Committee Reports and their proposed plans for the coming year, and the status of coordination of hydrogen activities within various government offices. These coordination activities will cover those ongoing within theDepartment of Energy, the Department of Transportation and NASA.

Tentative Agenda

Spring 2000

Monday, February 28, 2000

8:30 a.m. Introduction and Opening Comments—D. Nahmias

8:40 HTAP Committee Reports

—Coordination—H. Chum

—Scenario Planning—H. Wedaa

—Fuel Choice—R. Nichols

9:30 Office of Power Technologies-Strategic Overview—R. Dixon

10:00 EERE CrossCut Activities—R. Bradshaw

10:30 Break

10:50 Coordination Activities

—Overview—N. Rossmeissl

11:20 HTAP Discussion

12:00 p.m. Lunch

1:00 Coordination presentations by representatives from Department of Transportation, NASA and DOE including:

Office of Transportation Technologies

Office of Industrial Technologies

Office of Building Technologies

Office of Science

Office of Fossil Energy

3:30 Break

4:00 Public Comments (5 minutes maximum per speaker) Audience

5:00 HTAP Deliberations—Panel

6:00 Adjourn

Tuesday, February 29, 2000

8:30 a.m. DOE Program Report—FY01 Budget—S. Gronich

9:15 Broad Based Solicitation Results—N. Rossmeissl

10:00 Break

11:00 HTAP Discussion—Panel

12:00 p.m.—Adjourn

Public Participation: This meeting is open to the public. Written statements may be filed with the Committee either before or after the meeting. Individuals who wish to make oral statements pertaining to agenda items should contact Mr. Neil Rossmeissl's office at the address or telephone number listed above. Requests must be received 5 days prior to the meeting and reasonable provision will be made to include the presentations in the agenda. The Designated Federal Officer is empowered to conduct the meeting in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, S.W. Washington, DC 20585 between 9:00 A.M. and 4:00 P.M., Monday through Friday, except Federal Holidays. Minutes will also be available by writing to Neil Rossmeissl, Department of Energy, 1000 Independence Avenue, S.W., Washington, DC 20585, or by calling (202) 586-8668.

Issued at Washington, DC on January 21, 2000.
Rachel Samuel,
Deputy Advisory Committee Management Officer.

[FR Doc. 00-2067 Filed 1-31-00; 8:45 am]

BILLING CODE 6450-01-P